DEPARTMENT OF TRANSPORTATION

Federal Aviation Administration

Consensus Standards, Light-Sport Aircraft

AGENCY: Federal Aviation Administration, DOT.

ACTION: Notice of availability; request for comments.

SUMMARY: This notice announces the availability of certain new consensus standards and revisions to previously accepted consensus standards relating to the provisions of the Sport Pilot and Light-Sport Aircraft rule issued July 16, 2004, and effective September 1, 2004. ASTM International Committee F37 on Light Sport Aircraft developed these new and revised standards with FAA participation. By this Notice, the FAA finds these new and revised standards acceptable for certification of the specified aircraft under the provisions of the Sport Pilot and Light-Sport Aircraft rule.

DATES: Comments must be received on or before September 26, 2005.

ADDRESSES: Comments may be mailed to: Federal Aviation Administration, Small Airplane Directorate, Programs and Procedures Branch, ACE-114, Attention: Larry Werth, Room 301, 901 Locust, Kansas City, Missouri 64106. Comments may also be e-mailed to: Comments-on-LSA-Standard@faa.gov. All comments must be marked: Consensus Standards Comments, and must specify the standard being addressed by ASTM designation and title.

FOR FURTHER INFORMATION CONTACT: Larry Werth, Light-Sport Aircraft Program Manager, Programs and Procedures Branch (ACE-114), Small Airplane Directorate, Aircraft Certification Service, Federal Aviation Administration, 901 Locust, Room 301, Kansas City, Missouri 64106; telephone (816) 329-4147; e-mail: larry.werth@faa.gov.

SUPPLEMENTARY INFORMATION: This notice announces the availability of certain new consensus standards and revisions to previously accepted consensus standards relating to the provisions of the Sport Pilot and Light-Sport Aircraft rule. ASTM International Committee F37 on Light Sport Aircraft developed these new and revised standards.

Comments Invited: Interested persons are invited to submit such written data, views, or arguments, as they may desire. Communications should identify the consensus standard number and be submitted to the address specified above. All communications received on or before the closing date for comments will be forwarded to ASTM International Committee F37 for consideration. The standard may be changed in light of the comments received. The FAA will address all comments received during the recurring review of the consensus standard and will participate in the consensus standard revision process.

Background: Under the provisions of the Sport Pilot and Light-Sport Aircraft rule, and revised Office of Management and Budget (OMB) Circular A-119, “Federal Participation in the Development and Use of Voluntary Consensus Standards and in Conformity Assessment Activities”, dated February 10, 1998, industry and the FAA have been working with ASTM International to develop consensus standards for light-sport aircraft. These consensus standards satisfy the FAA's goal for airworthiness certification and a verifiable minimum safety level for light-sport aircraft. Instead of developing airworthiness standards through the rulemaking process, the FAA participates as a member of Committee F37 in developing these standards. The use of the consensus standard process assures government and industry discussion and agreement on appropriate standards for the required level of safety.

Comments on Previous Notices of Availability

In the Notice of Availability (NOA) issued on February 16, 2005, and published in the Federal Register on March 3, 2005, the FAA asked for public comments on the 15 consensus standards accepted by that NOA. The comment period closed on May 2, 2005.

The preamble to the Sport Pilot and Light-Sport Aircraft Rule states,

“If comments from the public are received as a result of the Notice of Availability, the FAA will address them during its recurring review of the consensus standards and participation in the consensus standards revision process.”

And—

“The FAA will respond to comments on the consensus standards in this revision process.”

ASTM International Committee F37 examined the public comments received on these 15 standards during the May 2005 committee meeting held in Reno, Nevada. The committee determined the comments did not warrant or justify any changes or revisions to the standards.

In the NOA issued on April 7, 2005, and published in the Federal Register on April 18, 2005, the FAA asked for public comments on the one consensus standard accepted by that NOA. The comment period closed on June 17, 2005. No comments were received on that consensus standard.

Consensus Standards in This Notice of Availability

The FAA has reviewed the standards presented in this NOA for compliance with the regulatory requirements of the rule. Any light-sport aircraft issued a special light-sport airworthiness certificate, which has been designed, manufactured, operated and maintained, in accordance with this and previously accepted ASTM consensus standards provides the public with the appropriate level of safety established under the regulations. Manufacturers who choose to produce these aircraft and certificate these aircraft under 14 CFR part 21, 21.190 or 21.191 are subject to the applicable consensus standard requirements. The FAA maintains a listing of all accepted standards at afs600.faa.gov.

The Revised Consensus Standards and Effective Period of Use

The following previously accepted consensus standards have been revised, and this Notice of Availability is accepting the later revisions. Either the previous revisions or the later revisions may be used for the initial certification of Special Light-Sport Aircraft until November 1, 2005. This overlapping period of time will allow aircraft that have started the initial certification process using the previous revision levels to complete that process. After November 1, 2005, manufacturers must use the later revisions and must identify these later revisions in the Statement of Compliance for initial certification of Special Light-Sport Aircraft unless the FAA publishes a specific notification otherwise.

a. ASTM Designation F 2240-03, titled: Standard Specification for Manufacturer Quality Assurance Program for Powered Parachute Aircraft.

b. ASTM Designation F 2241-03, titled: Standard Specification for Continued Airworthiness System for Powered Parachute Aircraft.

c. ASTM Designation F 2242-03, titled: Standard Specification for Production Acceptance Testing System for Powered Parachute Aircraft.

d. ASTM Designation F 2243-03, titled: Standard Specification for Required Product Information to be Provided with Powered Parachute Aircraft.

e. ASTM Designation F 2244-03, titled: Standard Specification for Design and Performance Requirements for Powered Parachute Aircraft.

f. ASTM Designation F 2352-04, titled: Standard Specification for Design and Performance of Light Sport Gyroplane Aircraft.

g. ASTM Designation F 2354-04, titled: Standard Specification for Continued Airworthiness System for Lighter-Than-Air Light Sport Aircraft.

h. ASTM Designation F 2356-04, titled: Standard Specification for Production Acceptance Testing System for Lighter-Than-Air Light Sport Aircraft.

i. ASTM Designation F 2415-04, titled: Standard Practice for Continued Airworthiness System for Light Sport Gyroplane Aircraft.

The Consensus Standards

The FAA finds the following 8 new and 9 revised consensus standards acceptable for certification of the specified aircraft under the provisions of the Sport Pilot and Light-Sport Aircraft rule. The consensus standards listed below may be used unless the FAA publishes a specific notification otherwise.

a. ASTM Designation F 2240-05, titled: Standard Specification for Manufacturer Quality Assurance Program for Powered Parachute Aircraft.

b. ASTM Designation F 2241-05, titled: Standard Specification for Continued Airworthiness System for Powered Parachute Aircraft.

c. ASTM Designation F 2242-05, titled: Standard Specification for Production Acceptance Testing System for Powered Parachute Aircraft.

d. ASTM Designation F 2243-05, titled: Standard Specification for Required Product Information to be Provided with Powered Parachute Aircraft.

e. ASTM Designation F 2244-05, titled: Standard Specification for Design and Performance Requirements for Powered Parachute Aircraft.

f. ASTM Designation F 2352-05, titled: Standard Specification for Design and Performance of Light Sport Gyroplane Aircraft.

g. ASTM Designation F 2354-05, titled: Standard Specification for Continued Airworthiness System for Lighter-Than-Air Light Sport Aircraft.

h. ASTM Designation F 2355-05, titled: Standard Specification for Design and Performance Requirements for Lighter-Than-Air Light Sport Aircraft.

i. ASTM Designation F 2356-05, titled: Standard Specification for Production Acceptance Testing System for Lighter-Than-Air Light Sport Aircraft.

j. ASTM Designation F 2415-05, titled: Standard Practice for Continued Airworthiness System for Light Sport Gyroplane Aircraft.

k. ASTM Designation F 2425-05, titled: Standard Specification for Continued Airworthiness System for Weight-Shift-Control Aircraft.

l. ASTM Designation F 2426-05, titled: Standard Guide on Wing Interface Documentation for Powered Parachute Aircraft.

m. ASTM Designation F 2427-05, titled: Standard Specification for Required Product Information to be Provided with Lighter-Than-Air Light Sport Aircraft.

n. ASTM Designation F 2447-05, titled: Standard Practice for Production Acceptance Test Procedures for Weight-Shift-Control Aircraft.

o. ASTM Designation F 2448-04, titled: Standard Practice for Manufacturer Quality Assurance System for Weight-Shift-Control Aircraft.

p. ASTM Designation F 2449-05, titled: Standard Specification for Manufacturer Quality Assurance Program for Light Sport Gyroplane Aircraft.

q. ASTM Designation 2457-05, titled: Standard Specification for Required Product Information to be Provided with Weight-Shift-Control Aircraft.

Availability

These consensus standards are copyrighted by ASTM International, 100 Barr Harbor Drive, PO Box C700, West Conshohocken, PA 19428-2959. Individual reprints of this standard (single or multiple copies, or special compilations and other related technical information) may be obtained by contacting ASTM at this address, or at (610) 832-9585 (phone), (610) 832-9555 (fax), through service@astm.org (e-mail), or through the ASTM Web site at http://www.astm.org. To inquire about standard content and/or membership, or about ASTM International Offices abroad, contact Daniel Schultz, Staff Manager for Committee F37 on Light Sport Aircraft: (610) 832-9716, dschultz@astm.org.

Issued in Kansas City, Missouri on July 19, 2005.
William J. Timberlake,
Acting Manager, Small Airplane Directorate, Aircraft Certification Service.

[FR Doc. 05-14762 Filed 7-26-05; 8:45 am]

BILLING CODE 4910-13-P